NUCLEAR REGULATORY COMMISSION

Advisory Committee on Reactor Safeguards; Meeting of the ACRS Subcommittee on AP1000; Revision to February 2-3, 2010 ACRS Meeting Federal Register Notice

The Federal Register Notice for the ACRS Subcommittee Meeting on AP1000 scheduled to be held on February 2-3, 2010, is being revised to notify the following:

The meeting will be open to public attendance with exception of portions that may be closed to protect unclassified safeguards information or information that is proprietary to Westinghouse Electric Company and its contractors, pursuant to 5 U.S.C. 552b(c)(3) and (4).

The notice of this meeting was previously published in the Federal Register on Wednesday, January 13, 2010 [75 FR 1831]. All other items remain the same as previously published.

Further information regarding this meeting can be obtained by contacting Peter Wen, Designated Federal Official (Telephone: 301-415-2832, E-mail: Peter.Wen@nrc.gov) between 7:30 a.m. and 5:15 p.m. (ET).

Dated: January 13, 2010.
Antonio F. Dias,
Chief, Reactor Safety Branch B, Advisory Committee on Reactor Safeguards.

[FR Doc. 2010-952 Filed 1-19-10; 8:45 am]

BILLING CODE 7590-01-P